NUCLEAR REGULATORY COMMISSION

[Docket No. 50-608; NRC-2013-0053]

SHINE Medical Technologies, Inc.; SHINE Medical Isotope Facility

AGENCY: Nuclear Regulatory Commission.

ACTION: Construction permit and record of decision; issuance.

SUMMARY: The U.S. Nuclear Regulatory Commission (NRC) is providing notice of the issuance of Construction Permit CPMIF-001 to SHINE Medical Technologies, Inc. (SHINE) and record of decision, located in Janesville, Wisconsin.

ADDRESSES: Please refer to Docket ID NRC-2013-0053 when contacting the NRC about the availability of information regarding this document. You may obtain publicly-available information related to this document using any of the following methods:

• Federal Rulemaking Web site: Go to http://www.regulations.gov and search for Docket ID NRC-2013-0053. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Steven Lynch, Office of Nuclear Reactor Regulation, U.S. Nuclear Regulatory Commission, Washington, DC 20555-0001; telephone: 301-415-1524, email: Steven.Lynch@nrc.gov.

SUPPLEMENTARY INFORMATION:

I. Introduction

Under section 2.106 of title 10 of the Code of Federal Regulations (10 CFR), the NRC is providing notice of the issuance of Construction Permit, CPMIF-001 to SHINE and, issuance of the Record of Decision (ROD) under 10 CFR 51.102(c). The construction permit, which is immediately effective, authorizes SHINE to construct a facility that will house eight utilization facilities and one production facility designed for the production of medical radioisotopes, as described in SHINE's application for construction permit, in Janesville, Wisconsin. With respect to the application for the construction permit filed by SHINE, the NRC finds that the applicable standards and requirements of the Atomic Energy Act of 1954, as amended (the Act), and the Commission's regulations have been met. The NRC finds that any required notifications to other agencies or bodies have been duly made and that, among other things, there is reasonable assurance that the activities authorized by the permit will be conducted in compliance with the rules and regulations of the Commission, that safety questions will be satisfactorily resolved by the completion of construction, and that, taking into consideration siting criteria, the proposed facility can be constructed and operated at the proposed location without under risk to public health and safety, subject to the conditions listed in the construction permit. Furthermore, the NRC finds that the licensee is technically and financially qualified to engage in the activities authorized, and that issuance of the license will not be inimical to the common defense and security or to the health and safety of the public. Finally, the NRC finds that the findings required by Subpart A of 10 CFR part 51 have been made.

Accordingly, the immediately effective construction permit was issued on February 29, 2016.

II. Further Information

The NRC prepared a Safety Evaluation Report (SER) and Final Environmental Impact Statement (FEIS) that document the information reviewed and the NRC's conclusion. The Commission also issued its Memorandum and Order documenting its final decision on the mandatory hearing held on December 15, 2015, which serves as the ROD in this proceeding. The NRC also prepared a document summarizing the ROD to accompany its action on the construction permit application that incorporates by reference materials contained in the FEIS. In accordance with 10 CFR 2.390 of the NRC's “Agency Rules of Practice and Procedure,” details with respect to this action, including the SER, FEIS, summary of the ROD, and accompanying documentation included in the construction permit package, as well as the Commission's hearing decision and ROD, are available online in the ADAMS Public Documents collection at http://www.nrc.gov/reading-rm/adams.html. From this site, persons can access the NRC's ADAMS, which provides text and image files of NRC's public documents.

III. Availability of Documents

The documents identified in the following table are available to interested persons through one or more of the following methods, as indicated.

Document | ADAMS Accession No.
Construction Permit No. CPMIF-001 | ML16041A471
Commission's Memorandum and Order on the mandatory hearing (ROD) | ML16056A094
Summary of the Record of Decision | ML16041A470
Safety Evaluation Report Related to the SHINE Medical Technologies, Inc. Construction Permit Application for a Medical Radioisotope Production Facility | ML15342A396
NUREG-2183, Final Environmental Impact Statement for the Construction Permit for the SHINE Medical Radioisotope Production Facility | ML15288A046
SHINE Construction Permit Application | ML13088A192
| ML15259A272
| ML15258A431

Dated at Rockville, Maryland, this 29 day of February 2016.
For the Nuclear Regulatory Commission.
Lawrence E. Kokajko,
Director, Division of Policy and Rulemaking, Office of Nuclear Reactor Regulation.

[FR Doc. 2016-04864 Filed 3-3-16; 8:45 am]

BILLING CODE 7590-01-P